OFFICE OF THE UNITED STATES TRADE REPRESENTATIVE

Request for Comments on an Environmental Goods Agreement

AGENCY: Office of the United States Trade Representative.

ACTION: Request for comments and notice of public hearing.

SUMMARY: On March 21, 2014, the United States Trade Representative notified Congress of the Administration's intention to enter into negotiations for a World Trade Organization Environmental Goods Agreement. A copy of the notification is available at www.ustr.gov/sites/default/files/03212014-Letter-to-Congress.pdf. The Office of the U.S. Trade Representative, on behalf of the Trade Policy Staff Committee (TPSC), is seeking public comments regarding U.S. interests and priorities with respect to this initiative. Comments may be provided in writing and orally at a public hearing.

DATES: Written comments are due by midnight, May 5, 2014. Persons wishing to testify orally at the hearing must provide written notification of their intention, as well as a summary of their testimony, by midnight, May 5, 2014. The hearing will be held in Washington, DC, on June 5, 2014.

ADDRESSES: Comments from the public should be submitted electronically at www.regulations.gov. If you are unable to provide submissions at www.regulations.gov, please contact Yvonne Jamison, Trade Policy Staff Committee (TPSC), at (202) 395-3475, to arrange for an alternative method of transmission.

FOR FURTHER INFORMATION CONTACT: For procedural questions concerning written comments, please contact Yvonne Jamison, Trade Policy Coordination Assistant, at the above number. All other questions regarding this notice should be directed to Bill McElnea, Director for Environment and Natural Resources, at (202) 395-7320.

SUPPLEMENTARY INFORMATION:

Background

On January 24, a group of 14 WTO Members (Australia, Canada, China, Costa Rica, the European Union, Hong Kong, Japan, Korea, New Zealand, Norway, Singapore, Switzerland, Chinese Taipei, and the United States) accounting for 86 percent of global trade in environmental goods announced in a joint statement their interest in negotiating an agreement to eliminate tariffs on environmental goods that are needed to protect the environment and address climate change. Examples of such environmental goods include solar panels, wind turbines, and catalytic converters, among others. The joint statement is available at: http://www.ustr.gov/about-us/press-office/press-releases/2014/January/USTR-Froman-remarks-on-new-talks-towards-increased-trade-environmental-goods.

The negotiations for an environmental goods agreement (EGA) will be open to all WTO Members that are prepared to eliminate tariffs on a set of environmental goods, building on the list of 54 environmental goods endorsed by APEC Leaders in 2012. The list of 54 environmental goods endorsed by Asia-Pacific Leaders is available at http://www.apec.org/Meeting-Papers/Leaders-Declarations/2012/2012_aelm/2012_aelm_annexC.aspx. Some WTO Members charge tariffs as high as 35 percent on some of these products. This list of products is the starting point for establishing the scope of the proposed agreement and we seek comments on additional products that could be included in the negotiations.

USTR is observing the relevant procedures of the Bipartisan Trade Promotion Authority Act of 2002 (19 U.S.C. 3804) with respect to notifying and consulting with Congress regarding such negotiations. The TPSC intends to hold a public hearing on specific issues pertaining to negotiations on an agreement to eliminate tariffs on environmental goods on June 5, 2014.

Comments From the Public and Hearing

The Chair of the TPSC invites interested persons to provide written comments and/or oral testimony at a public hearing that will assist USTR in assessing the proposed agreement. The TPSC Chair invites comments on all relevant matters, and, in particular, on the following: (1) Products that the United States should seek to include under the EGA, including a detailed description of the specific product, and as appropriate, the 6-digit (or 8-digit or 10-digit, where applicable) Harmonized System tariff classification number; (2) environmental uses and benefits of the products being proposed for inclusion; (3) U.S. trading partners that are significant producers or consumers of environmental goods; and (4) how best to ensure that such an agreement remains relevant into the future.

A hearing will be held on June 5, 2014, in Rooms 1 and 2, at 1724 F Street NW., Washington, DC. Persons wishing to testify at the hearing must provide written notification of their intention by May 5, 2014. The notification should include: (1) The name, address, and telephone number of the person presenting the testimony; and (2) a short (one or two paragraph) summary of the presentation, including the subject matter and, as applicable, subjects to be discussed. A copy of the testimony must accompany the notification. Remarks at the hearing should be limited to no more than five minutes to allow for possible questions from the TPSC. Persons with mobility impairments who will need special assistance in gaining access to the hearing should contact Yvonne Jamison at (202) 395-3475.

Requirements for Submissions

Persons submitting comments must do so in English and must identify (on the first page of the submission) “Environmental Goods Agreement”. In order to be assured of consideration, comments should be submitted by 11:59 p.m., May 5, 2014. In order to ensure the timely receipt and consideration of comments, USTR strongly encourages commenters to make on-line submissions using the www.regulations.gov Web site. To submit comments via www.regulations.gov, enter docket number USTR-2014-0004 on the home page and click “search.” The site will provide a search-results page listing all documents associated with this docket. Find a reference to this notice and click on the link entitled “Comment Now!” (For further information on using the www.regulations.gov Web site, please consult the resources provided on the Web site by clicking on “How to Use This Site” on the left side of the home page).

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in an application other than those two, please indicate the name of the application in the “Type Comment” field. For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the name of the person or entity submitting the comments. Please do not attach separate cover letters to electronic submissions; rather, include any information that might appear in a cover letter in the comments themselves. Similarly, to the extent possible, please include any exhibits, annexes, or other attachments in the same file as the submission itself, not as separate files.

As noted, USTR strongly urges submitters to file comments through www.regulations.gov, if at all possible. Any alternative arrangements must be made with Ms. Jamison in advance of transmitting a comment. Ms. Jamison should be contacted at (202) 395-3475. General information concerning USTR is available at www.ustr.gov. Comments will be placed in the docket and open to public inspection, except business confidential information. Comments may be viewed on the www.regulations.gov Web site by entering the relevant docket number in the search field on the home page.

Douglas Bell,
Chair, Trade Policy Staff Committee.

[FR Doc. 2014-06831 Filed 3-27-14; 8:45 am]

BILLING CODE 3290-F4-P